DEPARTMENT OF TRANSPORTATION

Federal Railroad Administration

[Docket No. FRA-2014-0011-N-6]

Proposed Agency Information Collection Activities; Comment Request

AGENCY: Federal Railroad Administration (FRA), Department of Transportation (DOT).

ACTION: Notice.

SUMMARY: In accordance with the Paperwork Reduction Act of 1995 and its implementing regulations, the Federal Railroad Administration (FRA) hereby announces that it is seeking renewal of the following currently approved information collection activities. Before submitting the information collection request (ICR) below for clearance by the Office of Management and Budget (OMB), FRA is soliciting public comment on specific aspects of the activities identified below.

DATES: Comments must be received no later than May 20, 2014.

ADDRESSES: Submit written comments on any or all of the following proposed activities by mail to either: Mr. Robert Brogan, Office of Safety, Planning and Evaluation Division, RRS-21, Federal Railroad Administration, 1200 New Jersey Ave. SE., Mail Stop 25, Washington, DC 20590, or Ms. Kimberly Toone, Office of Information Technology, RAD-20, Federal Railroad Administration, 1200 New Jersey Ave. SE., Mail Stop 35, Washington, DC 20590. Commenters requesting FRA to acknowledge receipt of their respective comments must include a self-addressed stamped postcard stating, “Comments on OMB control number 2130-0005.” Alternatively, comments may be transmitted via facsimile to (202) 493-6216 or (202) 493-6479, or via email to Mr. Brogan at Robert.Brogan@dot.gov, or to Ms. Toone at Kimberly.Toone@dot.gov. Please refer to the assigned OMB control number in any correspondence submitted. FRA will summarize comments received in response to this notice in a subsequent notice and include them in its information collection submission to OMB for approval.

FOR FURTHER INFORMATION CONTACT: Mr. Robert Brogan, Office of Planning and Evaluation Division, RRS-21, Federal Railroad Administration, 1200 New Jersey Ave. SE., Mail Stop 17, Washington, DC 20590 (telephone: (202) 493-6292) or Ms. Kimberly Toone, Office of Information Technology, RAD-20, Federal Railroad Administration, 1200 New Jersey Ave. SE., Mail Stop 35, Washington, DC 20590 (telephone: (202) 493-6132). (These telephone numbers are not toll-free.)

SUPPLEMENTARY INFORMATION: The Paperwork Reduction Act of 1995 (PRA), Public Law 104-13, sec. 2, 109 Stat. 163 (1995) (codified as revised at 44 U.S.C. 3501-3520), and its implementing regulations, 5 CFR part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(i)-(iv); 5 CFR 1320.8(d)(1)(i)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of currently approved information collection activities that FRA will submit for clearance by OMB as required under the PRA:

Title: Hours of Service Regulations.

OMB Control Number: 2130-0005.

Abstract: FRA amended its hours of service recordkeeping regulations, to add substantive hours of service regulations, including maximum on-duty periods, minimum off-duty periods, and other limitations, for train employees (e.g., locomotive engineers and conductors) providing commuter and intercity rail passenger transportation on August 12, 2011. See 76 FR 50359. The new substantive regulations require that railroads employing such train employees analyze and mitigate the risks for fatigue in the schedules worked by these train employees, and that the railroads submit to FRA for its approval the relevant schedules and fatigue mitigation plans. This final rule also made corresponding changes to FRA's hours of service recordkeeping regulation to require railroads to keep hours of service records and report excess service to FRA in an manner consistent with the new substantive requirements. This regulation was authorized by the Rail Safety Improvement Act (RSIA) of 2008. The information collected under this rule is used by FRA and its inspectors to ensure compliance with the Hours of Service Laws and the requirements of this regulation. In particular, the new information collected as a result of new Subpart F is used by FRA to verify that the employees of covered commuter and intercity passenger railroads do not exceed maximum on-duty periods, abide by minimum off-duty periods, and adhere to other limitations set forth in this regulation to enhance rail safety and reduce the risk of accidents/incidents caused by train employee fatigue, as well as those accident/incidents where fatigue of train employees served as a contributory factor.

Form Number(s): FRA F 6180.3.

Affected Public: Businesses.

Respondent Universe: 768 railroads/signal contractors.

Frequency of Submission: On occasion/monthly.

Reporting Burden:

CFR section | Respondent universe | Total annual responses | Average time per response | Total annual burden hours
228.11—Hours of Duty Records | 768 railroads/signal contractors | 27,429,750 records | 1 min./.5 min./10 minutes | 2,856,125
228.17—Dispatcher's Records of Train Movements | 150 Dispatch Offices | 200,750 records | 3 hours | 602,250
228.19—Monthly Reports of Excess Service | 300 railroads | 2,670 reports | 2 hours | 5,340
228.103—Construction of Employee Sleeping Quarters—Petitions to Allow Construction near Work Area | 50 railroads | 1 petition | 16 hours | 16
228.203—Program Components—Electronic Recordkeeping—Modification for Daylight Savings Time | 9 railroads | 5 modifications | 120 hours | 600
—System Security/Individual User I.D./ Program Logic Capabilities/Search Capabilities | 9 railroads | 1 program with system security etc. | 720 hours | 720
228.205—Access to Electronic Records—System Access Procedures for Inspectors | 768 railroads/signal contractors | 100 electronic records access procedures | 30 minutes | 50
228.207—Training in Use of Electronic System—Initial Training | 768 railroads/signal contractors | 47,000 trained employees | 1 hour | 47,000
—Refresher Training | 768 railroads/signal contractors | 2200 trained employees | 1 hour | 2,200
49 U.S.C. 21102(b)—The Federal Hours of Service Laws—Petitions for Exemption from Laws | 10 railroads | 2 petition | 10 hours | 20
228.403—Exemption Requests from Passenger/Commuter Railroads | 280 railroads | 5 exemption requests | 8 hours | 40
—Initial Exemption Requests from Tourist/Excursion Railroads | 140 railroads | 10 exemption requests | 2 hours | 20
—Renewal Exemption Requests from Tourist/Excursion Railroads | 140 railroads | 5 exemption requests | 30 minutes | 3
228.407—Analysis of Work Schedules Submissions | 168 railroads | 28 analyses | 8 hours | 2,240
—Reports to FRA of Work Schedules that Violate Fatigue Threshold | 168 railroads | 20 reports | 2 hours | 40
—Fatigue Mitigation Plans Submitted to FRA | 168 railroads | 15 plans | 4 hours | 60
—Submission of Work Schedules Using Validation Model Violating Threshold that can Be Mitigated by Tools | 168 railroads | 15 submissions | 4 hours | 60
—Submission of Work Schedules Using Validation Model Violating Threshold that cannot Be Mitigated by Tools | 168 railroads | 5 submissions | 4 hours | 20
—Railroad Determination of Necessary Schedules | 168 railroads | 20 decisions | 2 hours | 40
—Railroad Declaration that No Work Schedule Needs to Be Submitted to FRA for Violating Fatigue Threshold | 168 railroads | 148 written declarations | 1 hour | 148
—Corrected Work Schedules/Etc. | 168 railroads | 2 documents | 2 hours | 4
—Submission of Follow-Up Analysis by Railroad Due to Work Schedule Change | 168 railroads | 28 analyses | 4 hours | 112
—Corrected Work Schedules/Etc. | 168 railroads | 2 documents | 2 hours | 4
—Updated Fatigue Mitigation Plans | 168 railroads | 28 plans | 4 hours | 112
—Railroad Consultation with Employees | 168 railroads | 20 consults | 4 hours | 80
—Filed Statements with FRA by Employees and Employee Organizations Unable to Reach Consensus with Railroad on Work Schedules or Mitigation Tools | Railroad Employees/Employee Organizations | 5 statements | 2 hours | 10
228.411—Training Programs | 168 railroads | 29 programs | 20 hours | 580
—Employee Initial Training | 168 railroads | 10,200 trained employees | 1 hour | 10,200
—New Employees Initial Training | 168 railroads | 150 trained employees | 1 hour | 150
—Records of Training | 168 railroads | 10,350 records | 5 minutes | 863
—Written Declaration by Tourist Railroads for Exclusion from This Section's Requirements | 140 railroads | 100 written declarations | 1 hour | 100
—Appendix D: Guidance on Fatigue Management Plan | 168 railroads | 4 plans | 15 hours | 60

Estimated Annual Burden: 3,529,267 hours.

Status: Extension of a Currently Approved Collection:

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Rebecca Pennington,
Chief Financial Officer.

[FR Doc. 2014-06159 Filed 3-20-14; 8:45 am]

BILLING CODE 4910-06-P